FEDERAL COMMUNICATIONS COMMISSION

47 CFR Part 73

[DA 00-2067; MM Docket No. 00-94; RM-9883]

Radio Broadcasting Services; Almont, ND

AGENCY: Federal Communications Commission.

ACTION: Proposed rule, dismissal.

SUMMARY: The Commission dismisses the request of Morton County Radio to allot Channel 294A to Almont, ND, as its first local aural service. See 65 FR 3639, June 8, 2000. Neither the petitioner nor any other party filed comments expressing an intention to file for the channel, if allotted.

ADDRESSES: Federal Communications Commission, Washington, D.C. 20554.

FOR FURTHER INFORMATION CONTACT: Leslie K. Shapiro, Mass Media Bureau, (202) 418-2180.

SUPPLEMENTARY INFORMATION: This is a synopsis of the Commission's Report and Order, MM Docket No. 00-94, adopted August 30, 2000, and released September 8, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW, Washington, DC 20036.

Federal Communications Commission.
John A. Karousos,
Chief, Allocations Branch, Policy and Rules Division, Mass Media Bureau.

[FR Doc. 00-24070 Filed 9-19-00; 8:45 am]

BILLING CODE 6712-01-P